DEPARTMENT OF JUSTICE

Antitrust Division

Notice Pursuant to The National Cooperative Research and Production Act of 1993—VSI Alliance

Notice is hereby given that, on April 10,2001, pursuant to Section 6(a) of the National Cooperative Research and Production Act of 1993, 15 U.S.C. § 4301 et seq. (“the Act”), VSI Alliance has filed written notifications simultaneously with the Attorney General and the Federal Trade Commission disclosing changes in its membership status. The notifications were filed for the purpose of extending the Act's provisions limiting the recovery of antitrust plaintiffs to actual damages under specified circumstances. Specifically, Arasan Chip System, San Jose, CA; Axeon Limited, Aberdeen, Scotland, UNITED KINGDOM; Beach Solutions Ltd., Tavistock, England, UNITED KINGDOM; Annette Bunker (individual member), Salt Lake City, UT; Jeffrey Choi (Jong Kwan) (individual member), San Jose, CA; InTime Software, Inc., Cupertino, CA; Memec Core, Raleigh, NC; Morpho Technologies, Irvine, CA; Nazomi Communications, Inc., Santa Clara, CA; Gang Qu (individual member), College Park, MD; Verplex Systems, Inc., Milpitas, CA; and Xi'An Swip Co., Ltd., Xi'an, Shaangxi, PEOPLE'S REPUBLIC OF CHINA have been added as parties to this venture. Also, 3Com Corporation, Santa Clara, CA; A Priori Microsystems, Inc., Fukuoka, JAPAN; Artest Corp., Phoenix AZ; Avaz Networks (formerly Communications Enabling Technology), Irvine, CA; Prakash Bare (individual member), San Jose, CA; Gatefield Corp., Fremont, CA; Dominique Houzet (individual member), Toulouse, FRANCE; IMMS, Thuringen, GERMANY; Innoveda Ltd., Herzlia, ISRAEL; Massana, Inc., Campbell, CA; Pioneer Corporation, Tokyo, JAPAN; Pivotal Technologies, Pasadena, CA; RocketChips, Inc., Minneapolis, MN; Sierra Research and Technology, Inc., Westlake Village, CA; Mandayam Sriva (individual member), Menlo Park, CA; Synplicity, Inc., Sunnyvale, CA; Texas Instruments, Inc., Dallas, TX; The Silicon Group, Austin, TX; and Frank Vahid (individual member), Riverside, CA have been dropped as parties to this venture.

No other changes have been made in either the membership or planned activity of the group research project. Membership in this group research project remains open, and VSI Alliance intends to file additional written notification disclosing all changes in membership.

On November 29, 1996, VSI Alliance filed its original notification pursuant to Section 6(a) of the Act. The Department of Justice published a notice in the Federal Register pursuant to Section 6(b) of the Act on March 4, 1997 (62 FR 9812).

The last notification was filed with the Department on January 16, 2001. A notice was published in the Federal Register pursuant to Section 6(b) of the Act on March 20, 2001 (66 FR 15760).

Constance K. Robinson,
Director of Operations, Antitrust Division.

[FR Doc. 01-13036 Filed 5-22-01; 8:45 am]

BILLING CODE 4410-11-M